FEDERAL ELECTION COMMISSION

Sunshine Act Notice

AGENCY: Federal Election Commission.

DATE AND TIME: Wednesday, March 16, 2011 at 10 a.m.

PLACE: 999 E Street, NW., Washington, DC (Ninth Floor).

STATUS: This meeting will be open to the public.

Items To Be Discussed

Correction and Approval of the Minutes for the Meeting of March 3, 2011

Draft Advisory Opinion 2011-03: Democratic Senatorial Campaign Committee, National Republican Congressional Committee, Republican National Committee, Democratic Congressional Campaign Committee, and National Republican Senatorial Committee by Marc E. Elias, Esq., Jessica Furst, Esq., John Phillippe, Esq., Brian G. Svoboda, Esq., and Michael E. Toner, Esq.

Proposed Final Audit Report on Hillary Clinton for President (A08-05)

Withdrawal and Resubmission of Proposed Interpretative Rule Regarding Electronic Contributor Redesignations (LRA 820)

Legislative Recommendations

Management and Administrative Matters.

Individuals who plan to attend and require special assistance, such as sign language interpretation or other reasonable accommodations, should contact Shawn Woodhead Werth, Commission Secretary and Clerk, at (202) 694-1040, at least 72 hours prior to the hearing date.

PERSON TO CONTACT FOR INFORMATION: Judith Ingram, Press Officer, Telephone: (202) 694-1220.

Shawn Woodhead Werth,
Secretary and Clerk of the Commission.

[FR Doc. 2011-5846 Filed 3-9-11; 4:15 pm]

BILLING CODE 6715-01-P